DEPARTMENT OF TRANSPORTATION

Federal Aviation Administration

14 CFR Part 71

[Docket No. FAA-2003-16266; Airspace Docket 01-ANM-11]

Amendment to Class E Airspace; Yakima, WA

AGENCY: Federal Aviation Administration (FAA), DOT.

ACTION: Final rule.

SUMMARY: This amendment modifies the Class E airspace at Yakima, WA. New radar directed missed approach procedures have been developed at Yakima Air Terminal/McAllister Field, Yakima, WA, making it necessary to increase the area of controlled airspace. This additional controlled airspace extending upward from the surface of the earth is necessary for the safety of Instrument Flight Rules (IFR) aircraft executing new radar detected missed approach procedures.

EFFECTIVE DATE: 0901 UTC, August 5, 2004.

FOR FURTHER INFORMATION CONTACT: Ed Haeseker, Air Traffic Division, Federal Aviation Administration, 1601 Lind Avenue, SW., Renton, Washington 98055-4556; telephone (425) 227-2527.

SUPPLEMENTARY INFORMATION: On August 23, 2001, the FAA proposed to amend Title 14 Code of Federal Regulations, part 71 (14 CFR part 71) by modifying the airspace at Yakima, WA (66 FR 44327). This proposal would modify controlled airspace extending upward from the surface of the earth to contain IFR operations within controlled airspace when executing radar missed approach procedures. The published missed approach procedure for Instrument Landing System (ILS) Runway 27 at the Yakima Air Terminal/McAllister Field Airport requires a course reversal. Application of radar missed approach procedures introduces alternative radar directed courses and will eliminate conflicts with subsequent Runway 27 arrivals. Radar vector missed approach procedures will increase airport efficiency during peak arrival periods.

Interested parties were invited to participate in this rule making proceeding by submitting written comments on the proposal to the FAA. No comments were received. Class E airspace designations are published in FAA Order 7400.9L dated September 02, 2003, and effective September 16, 2003, which is incorporated by reference in 14 CFR 71.1. The Class E airspace designations listed in this document will be published subsequently in that Order.

The Rule

This amendment to 14 CFR part 71 will modify the Class E airspace at Yakima, WA, to accommodate aircraft executing the radar missed approach procedures. The radar missed approach procedures for ILS Runway 27 requires a course reversal that makes it necessary to increase the area of controlled airspace at the Yakima Air Terminal/McAllister Field Airport, Yakima, WA. This additional Class E airspace extending upward from the surface of the earth is necessary for the containment and safety of aircraft executing these procedures.

The FAA has determined that this regulation only involves an established body of technical regulations for which frequent and routine amendments are necessary to keep them operationally current. It, therefore, (1) is not a “significant regulatory action” under Executive Order 12866; (2) is not a “significant rule” under DOT Regulatory Policies and Procedures (44 FR 11034; February 26, 1979); and (3) does not warrant preparation of a regulatory evaluation, as the anticipated impact is so minimal. Since this is a routine matter that will only affect air traffic procedures and air navigation, it is certified that this rule will not have a significant economic impact on a substantial number of small entities under the criteria of the Regulatory Flexibility Act.

List of Subjects in 14 CFR Part 71

Airspace, Incorporation by reference, Navigation (air).

Adoption of the Amendment

In consideration of the foregoing, the Federal Aviation Administration amends 14 CFR part 71 as follows:

PART 71—DESIGNATION OF CLASS A, CLASS B, CLASS C, CLASS D, AND CLASS E AIRSPACE AREAS; AIRWAYS; ROUTES; AND REPORTING POINTS

1. The authority citation for 14 CFR part 71 continues to read as follows:

Authority: 49 U.S.C. 106(g), 40103, 40113, 40120; E.O. 10854, 24 FR 9565, 3 CFR, 1959-1963 Comp., p. 389.

§ 71.1 [Amended]

2. The incorporation by reference in 14 CFR part 71.1 of the Federal Aviation Administration Order 7400.9L, Airspace Designations and Reporting Points, dated September 2, 2003, and effective September 16, 2003, is amended as follows:

Paragraph 6004 Class E airspace areas designated as an extension to a Class D surface area.

* * * * *

ANM WA E4 Yakima, WA [Revised]

Yakima Air Terminal/McAllister Field Airport

(Lat. 46°34′05.4″N., long. 120°32′38.6″W.)

That airspace extending upward from the surface within 2.5 miles each side of the 287° bearing from the Yakima Air Terminal extending from the 4.2 mile radius of Yakima Air Terminal to 9 miles northwest of the airport, and within 3.5 miles northeast and 1.8 miles southwest of the 107° bearing from the airport extending from the 4.2 mile radius of the airport to 11.2 miles southeast of the airport.

* * * * *

3. The incorporation by reference in 14 CFR 71.1 of the Federal Aviation Administration Order 7400.9L, Airspace Designations and Reporting Points, dated September 2, 2003, and effective September 16, 2003, is amended as follows:

Paragraph 6005. Class E airspace areas extending upward from 700 feet or more above the surface of the earth.

* * * * *

ANM WA E5 Yakima, WA [Revised]

Yakima Air Terminal/McAllister Field Airport

(Lat. 46°34′05.4″N., long. 120°32′38.6″W.)

Yakima VORTAC

(Lat. 46°34′13.0″N., long. 120°26′40.6″W.)

That airspace extending upward from 700 feet above the surface within a 7.5 mile radius of the Yakima Air Terminal, and within 4.5 miles northeast and 9.5 miles southwest of the Yakima VORTAC 094° bearing extending from the 7.5 mile radius of the airport to 21 miles southeast of the VORTAC, and within 4.0 miles north and 5 miles south of the 287° bearing from the Yakima Air Terminal extending from the 7.5 mile radius of the airport to 16 miles northwest of the airport; that airspace extending upward from 1,200 feet above the surface bounded by a line beginning at lat. 46°10′00″N., long. 119°45′00″W.; thence to lat. 46°10′00″N., long. 121°00′00″W.; to lat. 46°50′00″N., long. 121°00′00″W.; to lat. 46°50′00″N., long. 119°45′00″W.; thence to the point of origin, excluding that airspace within Federal Airways and the Ellensburg, WA, Class E airspace area.

* * * * *

Issued in Seattle, Washington, on April 2, 2004.
Carla J. Mawhorter,
Acting Manager, Air Traffic Division, Northwest Mountain Region.

[FR Doc. 04-8356 Filed 4-12-04; 8:45 am]

BILLING CODE 4910-13-M